ENVIRONMENTAL PROTECTION AGENCY

[FRL-7123-5]

Research Needed To Improve Health and Ecological Risk Assessment for Ozone

AGENCY: Environmental Protection Agency (EPA).

ACTION: Notice of availability of external review draft.

SUMMARY: This notice announces the availability of the Second External Review Draft of a document, Research Needed to Improve Health and Ecological Risk Assessment for Ozone, EPA/600/R-98/031B, prepared by the Office of Research and Development of the U.S. Environmental Protection Agency (EPA). The purpose of this document is to identify the scientific areas in which research is most needed to improve health and ecological risk assessment in the process of setting National Ambient Air Quality Standards for ozone. Many of the research needs identified and discussed in this document became apparent during preparation of the Air Quality Criteria for Ozone and Related Photochemical Oxidants, EPA/600/P-93/004aF,bF,cF, July 1996. The First External Review Draft of this research needs document was reviewed by the Clean Air Scientific Advisory Committee (CASAC) of EPA's Science Advisory Board, on November 16, 1998, in Chapel Hill, NC. This Second External Review Draft has been prepared in light of CASAC's comments at that time and will be reviewed by CASAC (likely in March 2002), with date and location of the CASAC public review meeting to be announced in a future Federal Register notice. This document is intended to serve as a general guide to planning and conducting needed research on ambient ozone. The document intentionally makes no attempt to recommend specific research studies or programs.

DATES: Anyone who wishes to comment on this document may do so in writing by February 15, 2002.

ADDRESSES: To obtain a copy of the Research Needed to Improve Health and Ecological Risk Assessment for Ozone (External Review Draft) 2001, EPA/600/R-98/031B, contact Diane H. Ray, National Center for Environmental Assessment-RTP Office (MD-52), U.S. Environmental Protection Agency, Research Triangle Park, NC 27711; telephone: 919-541-3637; facsimile: 919-541-1818; E-mail: ray.diane@epa.gov. Internet users may obtain a copy from the EPA's National Center for Environmental Assessment (NCEA) home page. The URL is http://www.epa.gov/ncea/.

Send the written comments to the Project Manager for Ozone Research Needs, National Center for Environmental Assessment-RTP Office (MD-52), U.S. Environmental Protection Agency, Research Triangle Park, NC 27711.

FOR FURTHER INFORMATION CONTACT: Dr. Robert Chapman, National Center for Environmental Assessment-RTP Office (MD-52), U.S. Environmental Protection Agency, Research Triangle Park, NC 27711; telephone: 919-541-4492; facsimile: 919-541-1818; E-mail: chapman.robert@epa.gov.

Dated: December 20, 2001,
George W. Alapas,
Acting Director, National Center for Environmental Assessment.

[FR Doc. 01-32090 Filed 12-28-01; 8:45 am]

BILLING CODE 6560-50-P